DEPARTMENT OF THE INTERIOR

National Park Service

[NPS-WASO-NAGPRA-13941; PPWOCRADN0-PCU00RP14.R50000]

Notice of Inventory Completion: Fort Lewis College, Durango, CO; Correction

AGENCY: National Park Service, Interior.

ACTION: Notice; correction.

SUMMARY: The Fort Lewis College has corrected an inventory of human remains and associated funerary objects, published in a Notice of Inventory Completion in the Federal Register on October 11, 2011. This notice corrects the number of associated funerary objects.

ADDRESSES: Dawn Mulhern, Department of Anthropology, Fort Lewis College, 1000 Rim Dr., Durango, CO 81301, telephone (970) 247-7500, email MULHERN_D@fortlewis.edu

SUPPLEMENTARY INFORMATION: Notice is here given in accordance with the Native American Graves Protection and Repatriation Act (NAGPRA), 25 U.S.C. 3003, of the correction of an inventory of human remains and associated funerary objects under the control of the Fort Lewis College. The human remains and associated funerary objects were removed from La Plata, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (76 FR 62835-62838, October 11, 2011). The number of associated funerary objects was incorrectly reported in the original notice. Transfer of control of the items in this correction notice has occurred.

Correction

In the Federal Register (76 FR 62835-62838, October 11, 2011), paragraph 29, sentence five is corrected by substituting the following sentence:

The six associated funerary objects are 1 Chapin grey pitcher, 1 greyware jar, 1 Chapin black-on-white bowl, 1 Piedra black-on-white bowl, 1 lot of shell beads, and 1 Chapin grey jar.

In the Federal Register (76 FR 62835-62838, October 11, 2011), paragraph 56 is corrected by substituting the following sentence:

Pursuant to 25 U.S.C. 3001(3)(A), the 151 objects described above are reasonably believed to have been placed with or near individual human remains at the time of death or later as part of the death rite or ceremony.

The Fort Lewis College is responsible for notifying the Hopi Tribe of Arizona; Kewa Pueblo, New Mexico; Ohkay Owingeh, New Mexico; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta Del Sur Pueblo of Texas; and the Zuni Tribe of the Zuni Reservation, New Mexico that this notice has been published.

Dated: August 27, 2013.
David Tarler,
Acting Manager, National NAGPRA Program.

[FR Doc. 2013-23816 Filed 9-27-13; 8:45 am]

BILLING CODE 4312-50-P